SMALL BUSINESS ADMINISTRATION

[Declaration of Disaster #3561]

Commonwealth of Virginia

As a result of the President's major disaster declaration on December 9, 2003, I find that the Independent City of Galax, and the counties of Bland, Buchanan, Giles, Smyth, and Tazewell in the Commonwealth of Virginia constitute a disaster area due to damages caused by severe storms and flooding occurring on November 18, 2003 and continuing through November 19, 2003. Applications for loans for physical damage as a result of this disaster may be filed until the close of business on February 9, 2004 and for economic injury until the close of business on September 9, 2004 at the address listed below or other locally announced locations:

U.S. Small Business Administration, Disaster Area 1 Office, 360 Rainbow Blvd., South 3rd Fl., Niagara Falls, NY 14303-1192.

In addition, applications for economic injury loans from small businesses located in the following contiguous counties may be filed until the specified date at the above location: Carroll, Craig, Dickenson, Grayson, Montgomery, Pulaski, Russell, Washington, and Wythe Counties in the Commonwealth of Virginia; McDowell, Mercer, Mingo, Monroe, and Summers Counties in the State of West Virginia; and Pike County in the Commonwealth of Kentucky.

The interest rates are:

For Physical Damage:

Homeowners with credit available elsewhere: 6.250%;

Homeowners Without Credit Available Elsewhere: 3.125%;

Businesses with credit available elsewhere: 6.123%;

Businesses and non-profit organizations without credit available elsewhere: 3.061%; Others (Including non-profit organizations) with credit available elsewhere: 4.875%.

For Economic Injury:

Businesses and Small Agricultural Cooperatives Without Credit Available Elsewhere: 3.061%.

The number assigned to this disaster for physical damage is 356111. For economic injury the number is 9Y4000 for Virginia; 9Y4100 for West Virginia; and 9Y4200 for Kentucky.

(Catalog of Federal Domestic Assistance Program Nos. 59002 and 59008)
Dated: December 10, 2003.
Herbert L. Mitchell,
Associate Administrator for Disaster Assistance.

[FR Doc. 03-31079 Filed 12-16-03; 8:45 am]

BILLING CODE 8025-01-P